DEPARTMENT OF THE INTERIOR

Bureau of Land Management

[CO-930; COC-012768]

Public Land Order No. 7564; Partial Revocation of Public Land Order No. 1659; Colorado

AGENCY: Bureau of Land Management, Interior.

ACTION: Public Land Order.

SUMMARY: This order partially revokes Public Land Order No. 1659 insofar as it affects 60 acres of National Forest System land withdrawn for a Forest Service recreation area. The land is no longer needed for this purpose, and the revocation is needed to consummate a pending land exchange. This action will open the land to such forms of disposition as may by law be made of National Forest System land and to mining. The land has been and remains open to mineral leasing.

EFFECTIVE DATE: May 29, 2003.

FOR FURTHER INFORMATION CONTACT: Doris E. Chelius, BLM Colorado State Office, 2850 Youngfield Street, Lakewood, Colorado 80215-7093, 303-239-3706.

Order

By virtue of the authority vested in the Secretary of the Interior by Section 204 of the Federal Land Policy and Management Act of 1976, 43 U.S.C. 1714 (1994), it is ordered as follows:

1. Public Land Order No. 1659, which withdrew National Forest System lands for a recreation area and administrative sites, is hereby revoked insofar as it affects the following described land:

Pike National Forest

Sixth Principal Meridian

Eleven-Mile Canyon Recreation Area

T. 13 S., R. 72 W.,

sec. 20, lots 8, 16, and west 10 chains of lot 18.

The area described contains 60 acres in Park County.

2. At 9 a.m. on May 29, 2003 the land will be opened to such forms of disposition as may by law be made of National Forest System land, including location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: April 17, 2003.
Rebecca W. Watson,
Assistant Secretary—Lands and Minerals Management.

[FR Doc. 03-10497 Filed 4-28-03; 8:45 am]

BILLING CODE 4310-$$-P